DEPARTMENT OF COMMERCE

Bureau of Industry and Security

15 CFR Parts 730 and 744

[Docket No. 110222154-1181-01]

RIN 0694-AF13

Implementation of Additional Changes From the Annual Review of the Entity List; Removal of Person Based on Removal Request

AGENCY: Bureau of Industry and Security, Commerce.

ACTION: Final rule.

SUMMARY: This rule amends the Export Administration Regulations (EAR) to implement additional changes to the Entity List (Supplement No. 4 to part 744) on the basis of the annual review of the Entity List conducted by the End-User Review Committee (ERC). The ERC conducts the annual review to determine if any entities on the Entity List should be removed or modified. This rule implements the results of the annual review for entities located in Iran and the United Arab Emirates (U.A.E.). In addition to implementing changes from the annual review, this rule removes one person located in the United Kingdom (U.K.) from the Entity List. This person is being removed from the Entity List as a result of a request for removal submitted by that person, a review of information provided in the removal request in accordance with section 744.16 (Procedure for requesting removal or modification of an Entity List entity), and further review conducted by the End-User Review Committee's (ERC) member agencies. This rule makes a clarification to an existing entry located in China to accurately reflect the relationship between two aliases listed under that entry. The Entity List provides notice to the public that certain exports, reexports, and transfers (in-country) to entities identified on the Entity List require a license from the Bureau of Industry and Security and that availability of license exceptions in such transactions is limited. Lastly, this rule updates the Code of Federal Regulations (CFR) legal authority citations for parts 730 and 744 of the EAR.

DATES: Effective Date: This rule is effective April 18, 2011.

FOR FURTHER INFORMATION CONTACT: Karen Nies-Vogel, Chairman, End-User Review Committee, Office of the Assistant Secretary, Export Administration, Bureau of Industry and Security, Department of Commerce, Phone: (202) 482-5991, Fax: (202) 482-3911, E-mail: ERC@bis.doc.gov.

SUPPLEMENTARY INFORMATION:

Background

The Entity List provides notice to the public that certain exports, reexports, and transfers (in-country) to entities identified on the Entity List require a license from the Bureau of Industry and Security (BIS) and that the availability of license exceptions in such transactions is limited. Entities are placed on the Entity List on the basis of certain sections of part 744 (Control Policy: End-User and End-Use Based) of the EAR.

The End-User Review Committee (ERC), composed of representatives of the Departments of Commerce (Chair), State, Defense, Energy and, when appropriate, the Treasury, makes all decisions to make additions to, removals from and other changes to the Entity List. The ERC makes all decisions to add an entry to the Entity List by majority vote and all decisions to remove or modify an entry by unanimous vote.

Annual Review of the Entity List

This rule amends the Export Administration Regulations (EAR) to implement changes to the Entity List (Supplement No. 4 to part 744) on the basis of the annual review of the Entity List conducted by the ERC, in accordance with the procedures outlined in Supplement No. 5 to part 744 (Procedures for End-User Review Committee Entity List Decisions).

The changes from the annual review of the Entity List that are approved by the ERC are implemented in stages as the ERC completes its review of entities listed under different destinations on the Entity List. Within the past year, three final rules have been published implementing changes from the annual review. The first rule, published on May 28, 2010 (75 FR 29884), implemented the results of the annual review for listed entities located in Canada, Egypt, Germany, Hong Kong, Israel, Kuwait, Lebanon, Malaysia, South Korea, Singapore, and the U.K. The second rule, published on December 17, 2010 (75 FR 78883), implemented the results of the annual review for entities located in China and Russia. This rule, the third rule, implements the results of the annual review for entities located in Iran and the U.A.E. An additional rule will be published later in 2011, if needed, to implement the results of the annual review for entities listed located in Pakistan and Syria.

ERC Entity List Decisions

This rule removes two entities from the Entity List (one person located in the U.A.E. on the basis of the annual review, and one person located in the U.K. on the basis of a removal request), as described below under the heading Removals from the Entity List. On the basis of decisions made by the ERC during the annual review, this rule makes four modifications to the Entity List (modifications to one Iranian entry and three U.A.E. entries currently on the Entity List) by adding additional addresses, aliases and/or clarifying the names for these four entities, as described below under the heading Modifications to the Entity List. Lastly, this rule makes a correction to an existing entry listed under China to clarify the relationship between two aliases listed for the entity, as described below under the heading Correction to the Entity List.

Removals From the Entity List

This rule removes two entities from the Entity List (one from the U.A.E. on the basis of the annual review of the Entity List and one from the U.K. on the basis of a removal request), as follows:

(a) Removal on the basis of the annual review.

This final rule removes the following person located in the U.A.E. from the Entity List on the basis of a decision made by the ERC during the annual review:

United Arab Emirates

(1) Sayed-Ali Hosseini, 201 Latifah Building, Al Maktoum St., Dubai, U.A.E.

(b) Removal on the basis of a removal request.

The ERC also made a determination to remove one person, Ad Hoc Marine Designs Ltd., located in the U.K., as a result of this entity's request for removal from the Entity List. Based upon the review of the information provided in the removal request in accordance with Section 744.16 (Procedure for requesting removal or modification of an Entity List entity), and after review by the ERC's member agencies, the ERC determined that Ad Hoc Marine Designs Ltd. should be removed from the Entity List.

The ERC decision to remove Ad Hoc Marine Designs Ltd. took into account Ad Hoc Marine Designs Ltd.'s cooperation with the U.S. Government, as well as Ad Hoc Marine Designs Ltd.'s assurances of future compliance with the EAR. In accordance with section 744.16(c), the Deputy Assistant Secretary for Export Administration has sent written notification to Ad Hoc Marine Designs Ltd. informing this entity of the ERC's decision to remove it from the Entity List. This final rule implements the decision to remove this one British person from the Entity List.

Specifically, this rule removes the following person located in the U.K. from the Entity List:

United Kingdom

(1) Ad Hoc Marine Designs Ltd., 38 Buckland Gardens, Ryde Isle of Wight PO 33 3AG United Kingdom.

The removal of these two entities from the Entity List eliminates the existing license requirements in Supplement No. 4 to part 744 for exports, reexports and transfers (in-country) to these two entities. However, the removal of these two entities from the Entity List does not relieve persons of other obligations under part 744 of the EAR or under other parts of the EAR. Neither the removal of an entity from the Entity List nor the removal of Entity List-based license requirements relieves persons of their obligations under General Prohibition 5 in section 736.2(b)(5) of the EAR which provides that, “you may not, without a license, knowingly export or reexport any item subject to the EAR to an end-user or end-use that is prohibited by part 744 of the EAR.” Nor do these removals relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Modifications to the Entity List

On the basis of decisions made by the ERC during the annual review, this rule amends four entries (one Iranian entity and three U.A.E. entities) currently on the Entity List by adding additional addresses or aliases, or by clarifying the names for the entities listed, as follows:

Iran

(1) NBC Navegan Bar Co. Ltd., a.k.a., NBC Navegan Bar International Transport Co. Ltd., #135 Khorramshahr Ave., Tehran 15338-64163, and 101, Kohrramshahr Ave., Tehran 15338-64163.

United Arab Emirates

(1) Abubakr Abuelazm, Dubai, U.A.E., 500100 (See alternate address under Kuwait);

(2) Advanced Technology General Trading Company, a.k.a, Advanced Technologies Emirates FZ-LLC, Office #124 1st Floor, Building #3, Dell Building, Sheikh Zayed Road, Dubai Internet City, Dubai, U.A.E. (See alternate address under Kuwait); and

(3) Farrokh Nia Yaghmaei, a.k.a, Farokh Nia Yaghmaei, Flat 401- Bin Yas Center—Al Maktum Road, P.O. Box 42340, Dubai, U.A.E.; and Shops 3-4, Sharafia Ahmed Ali Building, al-Nakheel, Deira, Dubai, U.A.E.

Correction to the Entity List

Lastly, this rule makes a technical correction to a final rule published on December 17, 2010 (75 FR 78883). The changes in the December 17, final rule included a revision to the Entity List for an entity located in China called the “Chinese Academy of Engineering Physics.” The changes included revising the entry to add additional aliases for that entry. The eighteenth alias was listed as “University of Electronic Science and Technology of China, 901 Institute, (No. 4, 2nd Section, North Jianshe Road, Chengdu, 610054).” These aliases should have been listed as two separate aliases: the “University of Electronic Science and Technology of China, (No. 4, 2nd Section, North Jianshe Road, Chengdu, 610054)” and the “901 Institute.” This final rule corrects the entry by listing the aliases as separate aliases for the Chinese Academy of Engineering Physics.

China

(1) Chinese Academy of Engineering Physics, a.k.a., the following nineteen aliases:

—Ninth Academy;

—Southwest Computing Center;

—Southwest Institute of Applied Electronics;

—Southwest Institute of Chemical Materials;

—Southwest Institute of Electronic Engineering;

—Southwest Institute of Environmental Testing;

—Southwest Institute of Explosives and Chemical Engineering;

—Southwest Institute of Fluid Physics;

—Southwest Institute of General Designing and Assembly;

—Southwest Institute of Machining Technology;

—Southwest Institute of Materials;

—Southwest Institute of Nuclear Physics and Chemistry (a.k.a., China Academy of Engineering Physics (CAEP)'s 902 Institute);

—Southwest Institute of Research and Applications of Special Materials Factory;

—Southwest Institute of Structural Mechanics;

(—all of the preceding located in or near Mianyang, Sichuan Province)

—Chengdu Electronic Science and Technology University (CUST);

—The High Power Laser Laboratory, Shanghai;

—*The Institute of Applied Physics and Computational Mathematics, Beijing;

—*University of Electronic Science and Technology of China, (No. 4, 2nd Section, North Jianshe Road, Chengdu, 610054); and

—*901 Institute.

A BIS license is required for the export, reexport or transfer (in-country) of any item subject to the EAR to the persons described above, including any transaction in which this listed entity will act as purchaser, intermediate consignee, ultimate consignee, or end-user of the items. This listing of these entities also prohibits the use of license exceptions (see part 740 of the EAR) for exports, reexports and transfers (in-country) of items subject to the EAR involving this entity.

Update to Statement of Legal Authority for Parts 730 and 744

This rule also revises the authority citation paragraphs for parts 730 and 744 to include the President's notice of January 13, 2011, which extends for one year the emergency declared on January 23, 1995 (Executive Order 12947, 60 FR 5079, 3 CFR, 1995 Comp., p. 356) and the measures adopted on that date and on August 20, 1998 (Executive Order 13099, 63 FR 45167, 3 CFR, 1998 Comp., p. 208). These two authority citation paragraph revisions are purely procedural and do not alter any right, obligations or prohibition to any person under the EAR.

Savings Clause

Shipments of items removed from eligibility for a License Exception or export or reexport without a license (NLR) as a result of this regulatory action that were on dock for loading, on lighter, laden aboard an exporting or reexporting carrier, or en route aboard a carrier to a port of export or reexport, on April 18, 2011, pursuant to actual orders for export or reexport to a foreign destination, may proceed to that destination under the previous eligibility for a License Exception or export or reexport without a license (NLR) so long as they are exported or reexported before May 3, 2011. Any such items not actually exported or reexported before midnight, on May 3, 2011, require a license in accordance with the EAR.

Although the Export Administration Act expired on August 20, 2001, the President, through Executive Order 13222 of August 17, 2001, 3 CFR, 2001 Comp., p. 783 (2002), as extended by the Notice of August 12, 2010, 75 FR 50681 (August 16, 2010), has continued the Export Administration Regulations in effect under the International Emergency Economic Powers Act.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office and Management and Budget control number 0694-0088 are expected to increase slightly as a result of this rule. You may send comments regarding the collection of information associated with this rule, including suggestions for reducing the burden, to Jasmeet K. Seehra, Office of Management and Budget (OMB), by e-mail to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). The U.S. Government's original basis for adding the entities affected by this rule to the Entity List was their (the entities') involvement in activities contrary to U.S. national security or foreign policy interests. BIS implements this rule to further protect U.S. national security and foreign policy interests by preventing items from being exported, reexported or transferred (in-country) to these persons listed on the Entity List by making clarifications to the existing entries to inform exporters, reexporters and persons making transfers (in-country) of the intended scope of the license requirements for these listed persons. This action does this by adding additional addresses for listed persons, clarifying names for listed persons and adding aliases for listed persons. If this rule were delayed to allow for notice and comment and a delay in effective date, there is a chance that certain exporters, reexporters and persons making transfers (in-country) to these listed persons may inadvertently export, reexport or transfer (in-country) to a listed person on the Entity List because the exporter, reexporter or person making the transfer (in-country) did not realize the listed person was subject to the Entity List-based license requirement because of perceived ambiguity regarding the listed person, such as the listed person was using an alias or an alternate address. There is also a chance an exporter, reexporter or person making a transfer (in-country) may turn away a potential export, reexport, or transfer (in-country) because the customer appeared to be within the scope of a listed person on the Entity List, thereby harming U.S. economic interests. The clarification of language provided in this rule may make clear that the person was not subject to an Entity List-based license requirement. For these reasons there is a public interest that these changes be implemented as a final action. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects

15 CFR Part 730

Administrative practice and procedure, Advisory committees, Exports, Reporting and recordkeeping requirements, Strategic and critical materials.

15 CFR Part 744

Exports, Reporting and recordkeeping requirements, Terrorism.

Accordingly, parts 730 and 744 of the Export Administration Regulations (15 CFR parts 730-774) are amended as follows:

PART 730—[AMENDED]

1. The authority citation for 15 CFR part 730 is revised to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, 3 CFR, 2004 Comp., p. 168; Notice of August 12, 2010, 75 FR 50681 (August 16, 2010); Notice of November 4, 2010, 75 FR 68673 (November 8, 2010); Notice of January 13, 2011, 76 FR 3009.

PART 744—[AMENDED]

2. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2010, 75 FR 50681 (August 16, 2010); Notice of November 4, 2010, 75 FR 68673 (November 8, 2010); Notice of January 13, 2011, 76 FR 3009 (January 18, 2011).

3. Supplement No. 4 to part 744 is amended:

(a) By removing under United Arab Emirates, the entity: “Sayed-Ali Hosseini, 201 Latifah Building, Al Maktoum St., Dubai, U.A.E.”;

(b) By removing under United Kingdom, the entity: “Ad Hoc Marine Designs Ltd., 38 Buckland Gardens, Ryde Isle of Wight PO 33 3AG, United Kingdom.”

(c) By revising under China, the entity “Chinese Academy of Engineering Physics”;

(d) By revising under Iran, the entity “NBC Navegan Bar Co. Ltd”; and

(e) By revising under United Arab Emirates, the entities “Abubakr Abuelazm,” “Advanced Technology General Trading Company,” and Farrokh Nia Yaghmaei.

The revisions read as follows:

Supplement No. 4 to Part 744—Entity List
Country | Entity | License requirement | License review policy | Federal Register citation
* * * * * * *
CHINA, PEOPLE'S REPUBLIC OF | * * * * * * *
| Chinese Academy of Engineering Physics a.k.a., the following nineteen aliases: —Ninth Academy; —Southwest Computing Center; —Southwest Institute of Applied Electronics; —Southwest Institute of Chemical Materials; | For all items subject to the EAR | Case-by-case basis | 62 FR 35334, 6/30/97. 66 FR 24266, 5/14/01. 75 FR 78883, 12/17/10. 76 FR [INSERT FR PAGE NUMBER], 4/18/11.
| —Southwest Institute of Electronic Engineering;
| —Southwest Institute of Environmental Testing;
| —Southwest Institute of Explosives and Chemical Engineering;
| —Southwest Institute of Fluid Physics;
| —Southwest Institute of General Designing and Assembly;
| —Southwest Institute of Machining Technology;
| —Southwest Institute of Materials;
| —Southwest Institute of Nuclear Physics and Chemistry (a.k.a., China Academy of Engineering Physics (CAEP)'s 902 Institute);
| —Southwest Institute of Research and Applications of Special Materials Factory;
| —Southwest Institute of Structural Mechanics;
| (all of preceding located in or near Mianyang, Sichuan Province);
| — Chengdu Electronic Science and Technology University (CUST);
| —The High Power Laser Laboratory, Shanghai; |
| —The Institute of Applied Physics and Computational Mathematics, Beijing;
| —University of Electronic Science and Technology of China, 901 Institute, (No. 4, 2nd Section, North Jianshe Road, Chengdu, 610054); and
| —901 Institute.
* * * * * * *
IRAN | * * * * * * *
| NBC Navegan Bar Co. Ltd., a.k.a., NBC Navegan Bar International Transport Co. Ltd., #135 Khorramshahr Ave., Tehran 15338-64163, and 101, Kohrramshahr Ave., Tehran 15338-64163 | For all items subject to the EAR. (See § 744.11 of the EAR) | Presumption of denial | 73 FR 54503, 9/22/08. 76 FR [INSERT FR PAGE NUMBER], 4/18/11.
| * * * * * * *
* * * * * * *
UNITED ARAB EMIRATES | * * * * * * *
| Abubakr Abuelazm, Dubai, U.A.E., 500100 (See alternate address under Kuwait) | For all items subject to the EAR. (See § 744.11 of the EAR) | Presumption of denial | 73 FR 54509, 9/22/08. 76 FR [INSERT FR PAGE NUMBER], 4/18/11.
| Advanced Technology General Trading Company, a.k.a, Advanced Technologies Emirates FZ-LLC, Office #124 1st Floor, Building #3, Dell Building, Sheikh Zayed Road, Dubai Internet City, Dubai, U.A.E. (See alternate address under Kuwait) | For all items subject to the EAR (See § 744.11 of the EAR). | Presumption of denial | 73 FR 54509, 9/22/08. 73 FR 74001, 12/5/08. 74 FR 35797, 7/21/09. 76 FR [INSERT FR PAGE NUMBER], 4/18/11.
| * * * * * * *
| Farrokh Nia Yaghmaei, a.k.a, Farokh Nia Yaghmaei, Flat 401—Bin Yas Center—Al Maktum Road, P.O. Box 42340, Dubai, U.A.E.; and Shops 3-4, Sharafia Ahmed Ali Building, al-Nakheel, Deira, Dubai, U.A.E. | For all items subject to the EAR. (See § 744.11 of the EAR) | Presumption of denial | 73 FR 54510, 9/22/08. 76 FR [INSERT FR PAGE NUMBER], 4/18/11.
| * * * * * * *
* * * * * * *

Dated: April 11, 2011.
Kevin J. Wolf,
Assistant Secretary for Export Administration.

[FR Doc. 2011-9181 Filed 4-15-11; 8:45 am]

BILLING CODE 3510-33-P